DEPARTMENT OF THE INTERIOR

Fish and Wildlife Service

Endangered and Threatened Wildlife and Plants; 5-Year Reviews of 18 Caribbean Species

AGENCY: Fish and Wildlife Service, Interior.

ACTION: Notice of initiation of 5-year reviews; Request for public comment.

SUMMARY: We, the U.S. Fish and Wildlife Service (Service), are initiating 5-year reviews of 18 Caribbean species under section 4(c)(2) of the Endangered Species Act of 1973, as amended (Act). The purpose of a 5-year review is to ensure that the classification of a species as threatened or endangered on the List of Endangered and Threatened Wildlife and Plants is accurate. The 5-year review is an assessment of the best scientific and commercial data available at the time of the review.

DATES: To allow us adequate time to conduct our reviews, we must receive all information you submit for our consideration on or before November 20, 2007. However, we will continue to accept new information about any listed species at any time.

ADDRESSES: Send information on the 18 listed species to the Field Supervisor, Caribbean Field Office, U.S. Fish and Wildlife Service, Post Office Box 491, Boquerón, PR 00622. Information we receive in response to this notice will be available for public inspection by appointment, during normal business hours, at the Cabo Rojo National Wildlife Refuge, Ecological Service Office, Carr. 301, Km. 5.1, Bo. Corozo, Boquerón, PR, 00622.

FOR FURTHER INFORMATION CONTACT: Marelisa Rivera, Boquerón, Puerto Rico, at address above (telephone, 787/851-7297, ext. 231).

SUPPLEMENTARY INFORMATION: We are initiating 5-year reviews of 18 Caribbean species: The Puerto Rican broad-winged hawk (Buteo platypterus brunnescens), Puerto Rican sharp-shinned hawk (Accipiter striatus venator), yellow-shouldered blackbird (Agelaius xanthomus), Mona boa (Epicrates monensis monensis), Monito gecko (Sphaerodactylus micropithecus), Mona ground iguana (Cyclura cornuta stejnegeri), St. Croix ground lizard (Ameiva polops), Puerto Rican crested toad (Peltophryne lemur), Aristida chaseae (no common name), pelos del diablo (Aristida portoricensis), palma de manaca (Calyptronoma rivalis), Cranichis ricartii (no common name), higuero de Sierra (Crescentia portoricensis), Eugenia woodburyana (no common name), Lyonia truncata var. proctorii (no common name), palo de rosa (Ottoschulzia rhodoxylon), cóbana negra (Stahlia monosperma), and Vernonia proctorii (no common name) under the Endangered Species Act of 1973, as amended (16 U.S.C. 1531 et seq.; the Act). Of the above list of 18 species, the following 3 are currently listed as threatened: Mona boa, Puerto Rican crested toad, and cóbana negra; the other 15 species are currently listed as endangered. Our regulations at 50 CFR 424.21 require that we publish a notice in the Federal Register announcing those species currently under active review.

Under the Act, we maintain a List of Endangered and Threatened Wildlife and Plants at 50 CFR 17.11 (for animals) and 50 CFR 17.12 (for plants) (collectively referred to as the list). The list is also available on our Internet site at http://endangered.fws.gov/wildlife.html#Species. Section 4(c)(2)(A) of the Act requires that we conduct a review of listed species at least once every 5 years. Then, on the basis of such reviews, under section 4(c)(2)(B), we determine whether or not we should remove any species from the List (delist), or reclassify it from endangered to threatened or from threatened to endangered. Delisting a species must be supported by the best scientific and commercial data available and only considered if such data substantiate that the species is neither endangered nor threatened for one or more of the following reasons: (1) The species is considered extinct; (2) the species is considered to be recovered; and/or (3) the original data available when the species was listed, or the interpretation of such data, were in error. Any change in Federal classification would require a separate rulemaking process. We publish amendments to the list through final rules in the Federal Register.

What Information Do We Consider in Our Review?

A 5-year review considers the best scientific and commercial data that has become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

We request any new information concerning the status of any of these 18 species. Support any information you submit with documentation such as maps, bibliographic references, methods used to gather and analyze the data, and/or copies of any pertinent publications, reports, or letters by knowledgeable sources.

Definitions

The following definitions will assist you as you submit information regarding the species:

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

What Could Happen as a Result of Our Review?

If we find that there is new information concerning any of these 18 species indicating that a change in classification may be warranted, we may propose a new rule that could do one of the following: (a) Reclassify the species from endangered to threatened (downlist); (b) reclassify the species from threatened to endangered (uplist); or (c) delist the species. If we determine that a change in classification is not warranted, then the species will remain on the List under its current status.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: We publish this document under the authority of the Endangered Species Act (16 U.S.C. 1531 et seq.).

Dated: September 7, 2007.
Cynthia K. Dohner,
Acting Regional Director.

[FR Doc. E7-18557 Filed 9-20-07; 8:45 am]

BILLING CODE 4310-55-P